DEPARTMENT OF HOMELAND SECURITY

Federal Emergency Management Agency

[Docket ID FEMA-2007-0008]

National Advisory Council

AGENCY: Federal Emergency Management Agency, DHS.

ACTION: Committee Management; Notice of Federal Advisory Committee Meeting.

SUMMARY: The National Advisory Council will meet on February 16, 2012, in San Francisco, CA. The meeting will be open to the public.

DATES: The National Advisory Council will meet Thursday, February 16, 2012, from 8:30 a.m. PST to 5 p.m. PST. Please note that the meeting may close early if the committee has completed its business.

ADDRESSES: The meeting will be held at The Hyatt Regency San Francisco, 5 Embarcadero Center in San Francisco, CA.

For information on facilities or services for individuals with disabilities or to request special assistance at the meeting, contact Alexandra Woodruff of the Office of the National Advisory Council as soon as possible. See contact information under “FOR FURTHER INFORMATION CONTACT” section below.

To facilitate public participation, we are inviting public comment on the issues to be considered by the committee as listed in the SUPPLEMENTARY INFORMATION section below. Written comments or requests to make oral presentations must be submitted in writing no later than February 6, 2012 and must be identified by Docket ID FEMA-2007-0008 and may be submitted by one of the following methods:

• Federal eRulemaking Portal: http://www.regulations.gov. Follow the instructions for submitting comments.

• Fax: (703) 483-2999.

• Mail: FEMA, 500 C Street SW., Room 840, Washington, DC 20472-3100.

Instructions: All submissions received must include the words “Federal Emergency Management Agency” and the Docket ID FEMA-2007-0008 for this action. Comments received will be posted without alteration at http://www.regulations.gov, including any personal information provided.

Docket: For access to the docket to read background documents or comments received by the National Advisory Council, go to http://www.regulations.gov.

A public comment period will be held during the meeting on February 16, 2012 from 1:30 p.m. PST to 2 p.m. PST, and speakers are requested to register in advance, be present and seated by 1:20 p.m. PST, and limit their comments to 3 minutes. With 3 minutes per speaker, the public comment period is limited to no more than 10 speakers. Please note that the public comment period may start and end before the time indicated, if the committee has finished its business. Contact Alexandra Woodruff, Office of the National Advisory Council, to register as a speaker.

FOR FURTHER INFORMATION CONTACT: Alexandra Woodruff, Office of the National Advisory Council, Federal Emergency Management Agency (Room 832), 500 C Street SW., Washington, DC 20472-3100, telephone (202) 646-3746, fax (202) 646-3930, and email FEMA-NAC@dhs.gov. The National Advisory Council Web site is located at: http://www.fema.gov/about/nac/.

SUPPLEMENTARY INFORMATION: Notice of this meeting is given under the Federal Advisory Committee Act, 5 U.S.C. App. (Pub. L. 92-463). The National Advisory Council (NAC) advises the Administrator of the Federal Emergency Management Agency (FEMA) on all aspects of emergency management. The NAC incorporates State, local, and Tribal governments, and private sector partners' input in the development and revision of FEMA policies and strategies. FEMA's Office of the NAC serves as the focal point for all NAC coordination.

Agenda

The NAC will meet for the purpose of reviewing the progress and/or potential recommendations of its four subcommittees: Preparedness and Protection, Response and Recovery, Public Engagement and Mission Support, and Federal Insurance and Mitigation.

The NAC will discuss the Presidential Policy Directive 8 (PPD-8) on National Preparedness, the Campaign to Build and Sustain Preparedness, the National Mitigation Framework, the National Response Framework, the National Preparedness Goal, the Emergency Management Institute (EMI), Emergency Management Performance Grant (EMPG) program, National Disaster Recovery Framework, and the personal disaster assistance and individual assistance programs. A FEMA Program Office will brief the Council on Emerging Topics in Emergency Management during lunch, scheduled for 12:20 p.m. PST to 1:20 p.m. PST.

PPD-8, signed on March 30, 2011, directs the development of a national preparedness goal that identifies the core capabilities necessary for preparedness and a national preparedness system to guide activities that will enable the Nation to achieve the goal. PPD-8 replaces Homeland Security Presidential Directive 8 (HSPD-8) and Annex 1. More information on PPD-8, the Frameworks, and the National Preparedness Goal, may be found at http://www.fema.gov/prepared/ppd8.shtm.

EMI serves as the national focal point for the development and delivery of emergency management training to enhance the capabilities of State, local, and Tribal government officials; volunteer organizations; FEMA's disaster workforce; other Federal agencies; and the public and private sectors to minimize the impact of disasters and emergencies on the American public.

EMPG provides funding to assist State and local governments to sustain and enhance all-hazards emergency management capabilities. More information on EMPG may be found at http://www.fema.gov/emergency/empg/empg.shtm.

Dated: January 18, 2012.
W. Craig Fugate,
Administrator, Federal Emergency Management Agency.

[FR Doc. 2012-1317 Filed 1-23-12; 8:45 am]

BILLING CODE 9111-48-P